SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before June 21, 2010.

ADDRESSES: Send all comments regarding whether this information collection is necessary for the proper performance of the function of the agency, whether the burden estimates are accurate, and if there are ways to minimize the estimated burden and enhance the quality of the collection, to Carol Fendler, Systems Accountant, Office of Investment, Small Business Administration, 409 3rd Street, 6th Floor, Washington, DC 20416.

FOR FURTHER INFORMATION CONTACT: Carol Fendler, Systems Accountant, Office of Investment, 202-205-7559 carol.fendler@sba.gov Curtis B. Rich, Management Analyst, 202-205-7030 curtis.rich@sba.gov.

SUPPLEMENTARY INFORMATION: SBA Forms 1405 and 1405A are used by SBA examiners as part of their examinations of licensed small business investment companies (SBIC's). This information collection provides impendent third party confirmation of an SBIC's representations concerning its owners and helps SBA to evaluate the SBIC's compliance with applicable laws and regulations concerning capital requirements.

Title: “Stockholders Confirmation (Corporation); Ownership Confirmation (Partnership).”

Description of Respondents: Newly Licensed SBIC's.

Form Numbers: 1405, 1405A.

Annual Responses: 600.

Annual Burden: 600.

Addresses: Send all comments regarding whether this information collection is necessary for the proper performance of the function of the agency, whether the burden estimates are accurate, and if there are ways to minimize the estimated burden and enhance the quality of the collection, to Janis Ackerman, Financial Analyst, Office of Microloan, Small Business Administration, 409 3rd Street, 8th Floor, Washington, DC 20416.

For Further Information Contact: Janis Ackerman, Financial Analyst, Office of Microloan, 202-205-7798 janis.ackerman@sba.gov Curtis B. Rich, Management Analyst, 202-205-7030 curtis.rich@sba.gov.

SUPPLEMENTARY INFORMATION: Information collection is needed to ensure that Microloan Program activity meets the statutory goals of assisting the statutorily mandated target market. The information is used by the reporting participants and the SBA to assist with portfolio management, risk management, loan servicing and collections and to enable SBA to ensure that targeted groups are being served, and understand trends over time. It also allows SBA to monitor use of funds, ensure compliance, and provide education.

Title: “Microloan Program Electronic Reporting System (MPERS) (MPERsystem)”

Description of Respondents: Microloan Program Intermediary Lenders.

Form Number: N/A,

Annual Responses: 2,500,

Annual Burden: 625

Addresses: Send all comments regarding whether this information collection is necessary for the proper performance of the function of the agency, whether the burden estimates are accurate, and if there are ways to minimize the estimated burden and enhance the quality of the collection, to Gail Hepler, Chief 7(a) Program Branch, Office of Financial Assistance, Small Business Administration, 409 3rd Street, 8th Floor, Washington, DC 20416.

For Further Information Contact: Gail Hepler, Chief 7(a) Program Branch, Office of Financial Assistance, 202-205-7530 gail.hepler@sba.gov Curtis B. Rich, Management Analyst, 202-205-7030 curtis.rich@sba.gov.

SUPPLEMENTARY INFORMATION: SBA requires the minimal information required on these forms from lenders and borrowers to carry out its loan monitoring portfolio risk management, and lender oversight activities associated with this loan pilot.

Title: “Loan Program business, Small Business, Reporting and recordkeeping requirements.”

Description of Respondents: Application for an SBA Loan.

Form Numbers: 2276A, B, C, 2281.

Annual Responses: 180.

Annual Burden: 180.

Jacqueline White,
Chief, Administrative Information Branch.

[FR Doc. 2010-9141 Filed 4-20-10; 8:45 am]

BILLING CODE P